DEPARTMENT OF HOMELAND SECURITY

Federal Emergency Management Agency

44 CFR Part 67

[Docket ID FEMA-2011-0002; Internal Agency Docket No. FEMA-B-1176]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before May 17, 2011.

ADDRESSES: The corresponding preliminary Flood Insurance Rate Map (FIRM) for the proposed BFEs for each community is available for inspection at the community's map repository. The respective addresses are listed in the table below.

You may submit comments, identified by Docket No. FEMA-B-1176, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Dearborn County, Indiana, and Incorporated Areas
Great Miami River | Approximately 0.23 mile upstream of the Ohio River confluence | +489 | +490 | City of Greendale, Unincorporated Areas of Dearborn County.
| Approximately 5.07 miles upstream of the Ohio River confluence | +489 | +490
Ohio River | Approximately 0.65 mile upstream of the Laughery Creek confluence | +487 | +486 | City of Aurora, City of Lawrenceburg, Unincorporated Areas of Dearborn County.
| Approximately 1.25 miles upstream of the Tanners Creek confluence | +489 | +488
Tanners Creek | Approximately 0.46 mile downstream of U.S. Route 50 | +488 | +489 | City of Greendale, City of Lawrenceburg, Unincorporated Areas of Dearborn County.
| Approximately 2.07 miles upstream of Conrail | None | +489
Wilson Creek | At the Ohio River confluence | +488 | +487 | City of Aurora, Unincorporated Areas of Dearborn County.
| Approximately 0.35 miles upstream of Wilson Creek Road | +488 | +487
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Aurora
Maps are available for inspection at City Hall, 3rd and Main Streets, Aurora, IN 47001.
City of Greendale
Maps are available for inspection at the Utilities Office, 510 Ridge Avenue, Greendale, IN 47025.
City of Lawrenceburg
Maps are available for inspection at the Administration Building, 230 Walnut Street, Lawrenceburg, IN 47025.
Unincorporated Areas of Dearborn County
Maps are available for inspection at the Dearborn County Administration Building, 215B West High Street, Lawrenceburg, IN 47025.
Greene County, Indiana, and Incorporated Areas
Beehunter Ditch | Approximately 245 feet downstream of Baseline Road | None | +480 | City of Linton, Unincorporated Areas of Greene County.
| Approximately 450 feet upstream of Fairview Road | None | +508
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Linton
Maps are available for inspection at City Hall, 86 South Main Street, Linton, IN 47441.
Unincorporated Areas of Greene County
Maps are available for inspection at the Greene County Courthouse, 1 East Main Street, Bloomfield, IN 47424.
King County, Washington, and Incorporated Areas
Black River | Approximately 330 feet downstream of Oaksdale Avenue Southwest | +18 | +12 | City of Renton, City of Tukwila.
| At the Green River confluence | +23 | +24
Cedar River | At the upstream side of North Boeing Bridge | +19 | +24 | City of Renton, Unincorporated Areas of King County.
| Approximately 350 feet upstream of Landsburg Road Southeast | None | +528
Green River | Approximately 250 feet upstream of 42nd Avenue South | +15 | +16 | City of Auburn, City of Kent, City of Renton, City of SeaTac, City of Tukwila, Muckleshoot Tribe, Unincorporated Areas of King County.
| Approximately 1.8 miles upstream of Southeast Flaming Geyser Road | None | +229
Kelsey Creek | At the upstream side of I-405 | +27 | +29 | City of Bellevue.
| At the upstream side of Northeast 8th Street | +253 | +252
Mill Creek (Auburn) | Approximately 125 feet downstream of West Valley Highway | +46 | +45 | City of Auburn, City of Kent, Unincorporated Areas of King County.
| Approximately 1,500 feet upstream of State Route 167 | +46 | +47
Mill Creek (Kent) | At the Springbrook Creek confluence | +21 | +26 | City of Kent.
| Approximately 133 feet downstream of East Smith Street | +41 | +42
Richards Creek | At the Kelsey Creek confluence | +27 | +33 | City of Bellevue.
| Approximately 752 feet upstream of Richards Road | +32 | +33
Southwest 23rd Street Drainage Channel | At the Springbrook Creek confluence | None | +20 | City of Renton.
| Approximately 170 feet upstream of East Valley Road | None | +21
Springbrook Creek | At the upstream side of Black River Pump Station | +19 | +10 | City of Kent, City of Renton.
| Approximately 0.32 mile upstream of South 228th Street | +37 | +40
West Tributary to Kelsey Creek | At the Kelsey Creek confluence | +30 | +33 | City of Bellevue.
| Approximately 320 feet downstream of Northeast 1st Street | +51 | +52
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Auburn
Maps are available for inspection at 25 West Main Street, Auburn, WA 98001.
City of Bellevue
Maps are available for inspection at 450 110th Avenue Northeast, Bellevue, WA 98009.
City of Kent
Maps are available for inspection at 220 4th Avenue South, Kent, WA 98032.
City of Renton
Maps are available for inspection at 1055 South Grady Way, Renton, WA 98057.
City of SeaTac
Maps are available for inspection at 4800 South 188th Street, SeaTac, WA 98188.
City of Tukwila
Maps are available for inspection at 6200 Southcenter Boulevard, Tukwila, WA 98188.
Muckleshoot Tribe
Maps are available for inspection at 39015 172nd Avenue Southeast, Auburn, WA 98092.
Unincorporated Areas of King County
Maps are available for inspection at 900 Oaksdale Avenue Southwest, Renton, WA 98057.

(Catalog of Federal Domestic Assistance No. 97.022, “Flood Insurance.”)

Dated: February 7, 2011.
Sandra K. Knight,
Deputy Federal Insurance and Mitigation Administrator, Mitigation, Department of Homeland Security, Federal Emergency Management Agency.

[FR Doc. 2011-3509 Filed 2-15-11; 8:45 am]

BILLING CODE 9110-12-P